GENERAL SERVICES ADMINISTRATION

41 CFR Part 101-45

[FPMR Amendment H-207]

RIN 3090-AH29

Sale, Abandonment, or Destruction of Personal Property

AGENCY: Office of Governmentwide Policy, GSA.

ACTION: Final rule.

SUMMARY: The General Services Administration revised the regulations governing the abandonment and destruction of Federal personal property in the custody of executive agencies. The revised regulations are found in the Federal Management Regulation (FMR). This final rule removes from the Federal Property Management Regulations (FPMR) the old regulations governing use of the abandonment/destruction authority. This action is necessary to avoid duplicative coverage in the FPMR and the FMR. A cross reference is added to the FPMR to direct readers to the location of the new regulations in the FMR.

EFFECTIVE DATE: October 24, 2000.

FOR FURTHER INFORMATION CONTACT: Martha Caswell, Director, Personal Property Management Policy Division (MTP), 202-501-3828.

SUPPLEMENTARY INFORMATION:

A. Executive Order 12866

The General Services Administration (GSA) has determined that this final rule is not a significant rule for the purposes of Executive Order 12866 of September 30, 1993.

B. Regulatory Flexibility Act

This final rule is not required to be published in the Federal Register for public comment. Therefore, the Regulatory Flexibility Act does not apply.

C. Paperwork Reduction Act

The Paperwork Reduction Act (44 U.S.C. chapter 35) does not apply because this final rule does not contain any information collection requirements that require the approval of the Office of Management and Budget under 44 U.S.C. 3501 et seq.

D. Small Business Regulatory Enforcement Fairness Act

This final rule is exempt from Congressional review prescribed under 5 U.S.C. 801 since it relates solely to agency management and personnel.

List of Subjects in 41 CFR 101-45

Government property management, Surplus Government property.

For the reasons set forth in the preamble, GSA amends 41 CFR part 101-45 as follows:

PART 101-45—SALE, ABANDONMENT, OR DESTRUCTION OF PERSONAL PROPERTY

1. The authority citation for part 101-45 continues to read as follows:

Authority: Sec. 205(c), 63 Stat. 390 (40 U.S.C. 486(c)).

2. Subpart 101-45.9 is revised to read as follows:

Subpart 101-45.9—Abandonment or Destruction of Personal Property

§ 101-45.900 Cross-reference to the Federal Management Regulation (FMR) (41 CFR chapter 102, parts 102-1 through 102-220).

For information on the abandonment or destruction of personal property previously contained in this subpart, see 41 CFR part 102-36 (§§ 102-36.305 through 102-36.330).

Dated: September 26, 2000.
David J. Barram,
Administrator of General Services.

[FR Doc. 00-26019 Filed 10-23-00; 8:45 am]

BILLING CODE 6820-34-P